DEPARTMENT OF HOMELAND SECURITY

Final Information Quality Guidelines Policy

AGENCY: Department of Homeland Security.

ACTION: Notice and request for public comment on Final Information Quality Guidelines.

SUMMARY: These guidelines should be used to ensure and maximize the quality of disseminated information. The Department's guidelines are based on the guidelines of the Office of Management and Budget (OMB), “Guidelines for Ensuring and Maximizing the Quality, Objectivity, Utility, and Integrity of the Information Disseminated by Federal Agencies” 67 FR 8452 (Feb. 22, 2002). The guidelines are not intended to be, and should not be construed as, legally binding regulations or mandates. These guidelines are intended only to improve the internal management of DHS and, therefore, are not legally enforceable and do not create any legal rights or impose any legally binding requirements or obligations on the agency or the public. Nothing in these guidelines affects any available judicial review of agency action. These guidelines will serve as the minimum standards for quality within the Department. DHS Components may expand upon these guidelines as necessary, and should use these guidelines to develop or improve their processes for ensuring information disseminated by the Components meet the quality standards. DHS Components should implement processes and mechanisms for receiving, reviewing, and responding to information request that are consistent with these guidelines. DHS Components with existing directives, instructions, and correction processes for information quality may continue to use them, provided they are consistent with the standards and processes established in these guidelines.

The guidelines apply to information disseminated to the public in any medium including textual, graphic, narrative, numerical, or audiovisual forms, including information posted on the Internet. The guidelines also apply to DHS Component-sponsored distribution of information—where the DHS Component directs a third party to distribute information or DHS has the authority to review and approve the information before release. If the Department is to rely on information submitted by a third party that information would need to meet appropriate standards of objectivity and utility.

DATES: Comments are encouraged and will be accepted until March 17, 2011.

ADDRESSES: Public comments are invited on the information contained in the final policy. Comments on the final policy should be submitted electronically to DHS.INFOQUALITY@DHS.GOV. To obtain a copy of the policy please submit a request to DHS.INFOQUALITY@DHS.GOV (including your address and telephone number).

FOR FURTHER INFORMATION CONTACT: Department of Homeland Security, Information Quality Program Management Office at 202-447-5959.

Dated: January 25, 2011.
Richard A. Spires,
Chief Information Officer.

[FR Doc. 2011-3394 Filed 2-14-11; 8:45 am]

BILLING CODE 9110-9B-P